ENVIRONMENTAL PROTECTION AGENCY

40 CFR Part 98

[EPA-HQ-OAR-2015-0764; FRL-9942-96-OAR]

RIN 2060-AS73

Greenhouse Gas Reporting Rule: Leak Detection Methodology Revisions and Confidentiality Determinations for Petroleum and Natural Gas Systems

AGENCY: Environmental Protection Agency (EPA).

ACTION: Notice of proposed rulemaking; extension of public comment period.

SUMMARY: The Environmental Protection Agency (EPA) is announcing an extension of the public comment period for the proposed rule titled “Greenhouse Gas Reporting Rule: Leak Detection Methodology Revisions and Confidentiality Determinations for Petroleum and Natural Gas Systems.” The public comment period for this proposal began on January 29, 2016. This document announces the extension of the deadline for public comment from February 29, 2016 to March 15, 2016.

DATES: The public comment period for the proposed rule published January 29, 2016 (81 FR 4987) is extended. Comments must be received on or before March 15, 2016.

ADDRESSES: Submit your comments, identified by Docket ID No. EPA-HQ-OAR-2015-0764 to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Carole Cook, Climate Change Division, Office of Atmospheric Programs (MC-6207A), Environmental Protection Agency, 1200 Pennsylvania Ave. NW., Washington, DC 20460; telephone number: (202) 343-9263; fax number: (202) 343-2342; email address: GHGReporting@epa.gov. For technical information, please go to the Greenhouse Gas Reporting Program Web site, http://www.epa.gov/ghgreporting/index.html. To submit a question, select Help Center, followed by “Contact Us.”

SUPPLEMENTARY INFORMATION:

Worldwide Web (WWW)

In addition to being available in the docket, an electronic copy of this proposal will also be available through the WWW. Following signature, a copy of this action will be posted on the EPA's GHGRP Web site at http://www.epa.gov/ghgreporting/index.html.

Additional Information on Submitting Comments

To expedite review of your comments by Agency staff, you are encouraged to send a separate copy of your comments, in addition to the copy you submit to the official docket, to Carole Cook, U.S. EPA, Office of Atmospheric Programs, Climate Change Division, Mail Code 6207A, Washington, DC 20460, telephone (202) 343-9263, email address: GHGReporting@epa.gov.

Background

In this action, the EPA is providing notice that it is extending the comment period on the proposed rule titled “Greenhouse Gas Reporting Rule: Leak Detection Methodology Revisions and Confidentiality Determinations for Petroleum and Natural Gas Systems,” which was published on January 29, 2016 (81 FR 4987). The previous deadline for submitting public comment on that rule was February 29, 2016. The EPA is extending that deadline to March 15, 2016. This extension will provide the general public additional time for participation and comments.

List of Subjects in 40 CFR Part 98

Environmental protection, Administrative practice and procedure, Greenhouse gases, Reporting and recordkeeping requirements.

Dated: February 22, 2016.
Sarah Dunham,
Director, Office of Atmospheric Programs.

[FR Doc. 2016-04196 Filed 2-25-16; 8:45 am]

BILLING CODE 6560-50-P